DEPARTMENT OF THE INTERIOR

Fish and Wildlife Service

Availability of Final Comprehensive Conservation Plan for Rainwater Basin Wetland Management District, Kearney, NE

AGENCY: Fish and Wildlife Service, Interior.

ACTION: Notice of availability.

SUMMARY: The U.S. Fish and Wildlife Service (Service) announces that the final Comprehensive Conservation Plan (CCP) for the Rainwater Basin Wetland Management District (WMD) is available. This CCP, prepared pursuant to the National Wildlife Refuge System Improvement Act of 1997 and the National Environmental Policy Act of 1969, describes how the Service intends to manage the Rainwater Basin WMD, which administers 61 waterfowl production areas and 35 conservation easements for the next 15 years.

ADDRESSES: A copy of the CCP or Summary may be obtained by writing to U.S. Fish and Wildlife Service, Division of Refuge Planning, 134 Union Boulevard, Suite 300, Lakewood, Colorado 80228; or download from http://mountain-prairie.fws.gov/planning.

FOR FURTHER INFORMATION CONTACT: Bernardo Garza, 303-236-4377 (phone); 303-236-4792 (fax); or bernardo_garza@fws.gov.

SUPPLEMENTARY INFORMATION:

Background

The District encompasses Adams, Clay, Fillmore, Franklin, Gosper, Hall, Hamilton, Kearney, Phelps, Polk, Saline, Seward, and York Counties in south-central Nebraska.

The WMD was established in 1963 when the Service began acquiring critical migratory waterfowl habitat in south-central and southeast Nebraska with Duck Stamp dollars. The WMD's establishment purposes are:

(1) “* * * to assure the long-term viability of the breeding waterfowl population and production through the acquisition and management of Waterfowl Production Areas (WPAs), while considering the needs of other migratory birds, threatened and endangered species and other wildlife.” (purpose statement developed for all WMDs in Region 6 in June 2004);

(2) To acquire small wetland and pothole areas to be designated as ‘Waterfowl Production Areas’ as an inviolate sanctuary or for any other management purpose, for migratory birds and to restore and develop adequate wildlife habitat under the Migratory Bird Hunting and Conservation Stamp Promotion Act “see” [16 U.S.C. 715d(2), 715i(a) & 718(c)];

(3) “for conservation purposes” under the Consolidated Farm and Rural Development Act [7 U.S.C. 2002 (a)];

(4) “promote * * * the conservation of the wetlands of the Nation in order to maintain the public benefits they provide and to help fulfill international obligations in various migratory bird treaties and conventions with Canada, Mexico, Japan, the Union of Soviet Socialist Republics, and with various countries in the Western Hemisphere” under the Emergency Wetlands Resources Act [16 U.S.C. 3901(b)]; and

(5) “to protect waterfowl production areas” under Public Land Orders 6979 [May 25, 1993], and 7206 [June 24, 1996].

Today, the WMD manages 24,210.09 acres in 61 waterfowl production areas within the geographic area called the Rainwater Basin. Current public use opportunities at this WMD include hunting, environmental education and interpretation, wildlife observation, and photography. All WPAs are subject to all provisions of the Migratory Bird Conservation Act except the inviolate sanctuary provisions, for any other management purposes, for migratory birds, and for conservation purposes.

This final CCP identifies goals, objectives, and strategies for the management of Rainwater Basin WMD that emphasize restoration and maintenance of native habitats in vigorous condition for migratory birds. The CCP places high importance on the control of invasive plant species with partners and integrated pest management. It seeks to provide habitats in order to contribute to conservation, enhancement, and production of migratory bird species while protecting federally listed species.

The availability of the draft CCP and Environmental Assessment (EA) for a 30-day public review and comment period was announced in the Federal Register on July 18, 2007. The draft CCP/EA evaluated two alternatives for managing Rainwater Basin WMD for the next 15 years.

The preferred alternative will expand the scope and level of efforts of the current management of habitats by maintaining existing and seeking new partnerships. This alternative will seek to address all management aspects in a holistic manner. The WMD will work with formal and informal partnerships, including landowners, to improve waterfowl production areas at a landscape level. Actions would strive to build a “neighborly interaction” between privately-owned, State, and WMD lands within each watershed. The WMD would work with partners to complete the engineering and funding and would continue to support and work cooperatively to further the goals of the Rainwater Basin Joint Venture.

This alternative was selected because it best meets the purposes and goals of the WMD, as well as the mission and goals of the National Wildlife Refuge System. The preferred alternative also will benefit federally listed species, shore birds, migrating and nesting waterfowl, neotropical migrants, and resident wildlife. Environmental education and partnerships will result in improved wildlife-dependent recreational opportunities. Cultural and historical resources as well as federally listed species will be protected.

The Service is furnishing this notice to advise other agencies and the public of the availability of the final Plan, to provide information on the desired conditions for the Wetland Management District, and to detail how the Service will implement management strategies. Based on the review and evaluation of the information contained in the EA, the Regional Director has determined that implementation of the Final Plan does not constitute a major federal action that would significantly affect the quality of the human environment within the meaning of Section 102(2) (c) of the National Environmental Policy Act. Therefore, an Environmental Impact Statement will not be prepared.

Dated: February 5, 2008.
Gary G. Mowad,
Acting Regional Director, Denver, Colorado.

[FR Doc. E8-2541 Filed 2-11-08; 8:45 am]

BILLING CODE 4310-55-P